DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Miscellaneous Short Supply Activities.

OMB Control Number: 0694-0102.

Form Number(s): None.

Type of Request: Regular submission.

Burden Hours: 201.

Number of Respondents: 2.

Average Hours per Response: 1 hour for a USAG; and 200 for a Petition.

Needs and Uses: This information collection is comprised of two rarely used short supply activities: “Registration of U.S. Agricultural Commodities for Exemption from Short Supply Limitations on Export,” and “Petitions for the Imposition of Monitoring or Controls on Recyclable Metallic Materials; Public Hearings.” These activities are statutory in nature and, therefore, must remain a part of BIS's information collection budget authorization.

Affected Public: Business and other for-profit organizations.

Frequency: On occasion.

Respondent's Obligation: Required to obtain or retain benefits.

OMB Desk Officer: Jasmeet Seehra, (202) 395-3123.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Jasmeet Seehra, Office of Management and Budget (OMB), by e-mail to jseehra@omb.eop.gov, or by fax to (202) 395-7285.

Dated: February 5, 2009.
Gwellnar Banks,
Management Analyst, Office of the Chief Information Officer.

[FR Doc. E9-2724 Filed 2-9-09; 8:45 am]

BILLING CODE 3510-33-P